DEPARTMENT OF VETERANS AFFAIRS

Privacy Act of 1974; System of Records

AGENCY: Department of Veterans Affairs (VA).

ACTION: Notice of New System of Records “Shipboard Hazard and Defense Integrated Database—VA''.

SUMMARY: The Privacy Act of 1974 (5 U.S.C. 552(e)(4)) requires that each agency publish in the Federal Register a notice of the existence and character of its systems of records. Notice is hereby given that the Department of Veterans Affairs (VA) is establishing a new system of records entitled, “Shipboard Hazard and Defense Integrated Database—VA” (128VA008A).

DATES: Comment on the establishment of this system of records must be received no later than October 30, 2003. If no public comment is received, the new system will become effective October 30, 2003.

ADDRESSES: Anyone may submit written comments concerning the proposed system of records to the Director, Regulations Management (00REG1), Department of Veterans Affairs, 810 Vermont Avenue NW., Washington, DC 20420. Fax comments to (202) 273-9289; or e-mail comments to OGCRegulations@mail.va.gov. Comments will be available for public inspection at the above address in the Office of Regulation Policy and Management, Room 1063B, between the hours of 8 a.m. and 4:30 p.m., Monday through Friday (except holidays). Please call (202) 273-9515 for an appointment.

FOR FURTHER INFORMATION CONTACT: Mr. Dat Tran, Acting Director, Data Management and Analysis Service, Office of Policy (008A3), VA Central Office, 810 Vermont Avenue NW., Washington, DC 20420, (202) 273-6482.

SUPPLEMENTARY INFORMATION:

I. Description of the Proposed Systems of Records

The Shipboard Hazard and Defense (SHAD) Integrated Database, located at VA Central Office (VACO), Washington, DC is a relational database. The database contains demographic, medical, and benefits information on veterans identified as Project 112 participants. Project 112 was the Department of Defense's (DoD) comprehensive program of chemical and biological warfare vulnerability tests, which DoD conducted to determine how to protect U.S. military personnel against these health threats. Project SHAD tests were the shipboard tests. DoD conducted SHAD tests to evaluate the effectiveness of shipboard detection of chemical and biological agents, the effectiveness of protective measures, and risks to U.S. forces. Data for the integrated database was compiled from VA's Compensation and Pension Master Records (CPMR), Beneficiary Identification and Record Locator System (BIRLS), and Inpatient and Outpatient data systems by matching social security numbers to the records of the veterans. The purpose of the Shipboard Hazard and Defense Integrated Database is to combine information about veterans who have been identified by DoD as P-112 participants from multiple VA databases into one database. The comprehensive information will be used by the Veterans Health Administration (VHA) and the Veterans Benefits Administration (VBA) to assess the needs of these veterans, address their concerns about potential health risks, and monitor VA's outreach efforts.

II. Proposed Routine Use of Disclosures of Data in the System

1. The record of an individual who is covered by this system may be disclosed to a member of Congress or staff person acting for the member when the member or staff person requests the record on behalf of, and at the written request of, that individual. Individuals sometimes request the help of a member of Congress in resolving some issues relating to a matter before VA. The member of Congress then writes VA, and VA must be able to give sufficient information to be responsive to the inquiry.

2. Records covered by this system, as deemed necessary and proper, may be disclosed to named individuals serving as accredited service organization representatives and other individuals named as approved agents or attorneys for a documented purpose and period of time. The purpose of these disclosures should be to aid beneficiaries in the preparation and presentation of their cases during the verification and/or due process procedures and in the presentation and prosecution of claims under laws administered by VA.

3. A record containing the name(s) and address(es) of present or former members of the Armed Services and/or their dependents may be released from this system of records under certain circumstances:

(a) To any nonprofit organization if the release is directly connected with the conduct of programs and the utilization of benefits under Title 38 and

(b) To any criminal or civil law enforcement governmental agency or instrumentality charged under applicable law with the protection of the public health or safety if a qualified representative of such organization, agency, or instrumentality has made a written request that such name(s) or address(es) be provided for a purpose authorized by law. The record(s), however, will not be used for any purpose other than that stated in the request and the organization, agency, or instrumentality must be made aware of the penalty provision of 38 U.S.C. 5701(f).

VA must be able to comply with the requirements of agencies charged with enforcing the law who are conducting investigations. VA must also be able to provide information to state or local agencies charged with protecting the public health as set forth in state law.

4. Disclosure may be made to the National Archives and Record Administration (NARA) in records management inspections conducted under authority of 44 United States Code.

NARA is responsible for archiving old records no longer actively used, but which may be appropriate for preservation, and in general for the physical maintenance of the Federal Government's records. VA must be able to turn records over to NARA for the proper disposition of such records.

5. Disclosure of information, excluding names and address (unless furnished by the requestor) for research purposes determined to be necessary and proper, may be made to epidemiological and other research facilities approved by the Under Secretary for Health.

VA participates in various research programs and activities and must be able to disclose information for research purposes approved by the Under Secretary for Health.

6. In order to conduct Federal research necessary to accomplish a statutory purpose of an agency, at the written request of the head of the agency, or designee of the head of that agency, the name(s) and address(es) of present or former personnel of the Armed Services and/or their dependents may be disclosed:

(a) To a Federal department or agency or

(b) Directly to a contractor of a Federal department or agency. When a disclosure of this information is to be made directly to the contractor, VA may impose applicable conditions on the department, agency, and/or contractor to ensure the appropriateness of the disclosure to the contractor.

VA must be able to disclose information for research purposes needed to accomplish a statutory purpose of a Federal agency. VA occasionally contracts out certain of its functions when this would contribute to effective and efficient operations. VA must be able to give a contractor whatever information is necessary for the contractor to fulfill its duties. In these situations, safeguards are provided in the contract prohibiting the contractor from using or disclosing the information for any purpose other than that described in the contract.

7. In the event that a record maintained by VA indicates a violation or potential violation of law, whether civil, criminal, or regulatory in nature, and whether arising by general statute or particular program statute, or by regulation, rule or order issued pursuant thereto, information may be disclosed to the appropriate agency whether Federal, state, local or foreign, charged with responsibility of investigating or prosecuting such violation or charged with enforcing or implementing the statute or rule, regulation, or order issued pursuant thereto. However, names and addresses of veterans and their dependents will be released only to Federal entities.

8. For program review purposes and the seeking of accreditation and/or certification, disclosure may be made to survey teams of the Joint Commission on Accreditation of Healthcare Organizations (JCAHO), American Association of Blood Banks, and similar national accreditation agencies or boards with which VA has a contract or agreement to conduct such reviews. Disclosure may be made only to the extent that the information is necessary and relevant to the review.

VA health care facilities undergo certification and accreditation by several national accreditation agencies or boards to comply with regulations and good medical practices. VA must be able to disclose information for program review purposes and for seeking accreditation and/or certification of health care facilities and program.

9. Records from this system of records may be disclosed to the Department of Justice (DOJ) or in a proceeding before a court, adjudicative body, or other administrative body before which VA is authorized to appear when:

(a) VA, or any component thereof; or any employee of VA in his or her official capacity; where DOJ or VA has agreed to represent the employee or the U.S.; when VA determines that litigation is likely to affect VA or any of its components, is a party to litigation, and has an interest in such litigation, and the use of such records by DOJ or VA is deemed by VA to be relevant and necessary to the litigation provided, however, that the disclosure is compatible with the purpose for which the records were collected.

Whenever VA is involved in litigation, or when another party is involved in litigation and VA policies or operations could be affected by the outcome of the litigation, VA would be able to disclose information to the court or parties involved. A determination would be made in each instance that, under the circumstances, the purpose served by the use of the information in the particular litigation is compatible with a purpose for which the VA collects the information.

III. Compatibility of the Proposed Routine Uses

The Privacy Act permits VA to disclose information about individuals without their consent for a routine use when the information will be used for a purpose that is compatible with the purpose for which we collected the information. In all of the routine use disclosures, either the recipient of the information will use the information in connection with a matter relating to one of VA's programs, or will use the information to provide a benefit to VA, or disclosure is required by law.

We have sent the notice of intent to publish and an advance copy of the system notice to the appropriate Congressional committees and to the Director of Office of Management and Budget (OMB) as required by 5 U.S.C. 552a(r) (Privacy Act) and guidelines issued by OMB (65 FR 77677), December 12, 2000.

Approved: September 15, 2003.
Anthony J. Principi,
Secretary of Veterans Affairs.

128VA008A

SYSTEM NAME:

Shipboard Hazard and Defense Integrated Database—VA.

SYSTEM LOCATION:

The Shipboard Hazard and Defense Integrated Database is maintained at the U.S. Department of Veterans Affairs, Office of Policy, Planning, and Preparedness (008A3), 810 Vermont Avenue NW., Washington, DC 20420.

CATEGORIES OF INDIVIDUALS COVERED BY THE SYSTEM:

Veterans who DoD has identified as participants in Project 112, a comprehensive program of chemical and biological warfare vulnerability tests conducted to determine how to protect U.S. servicemembers against these health threats.

CATEGORIES OF RECORDS IN THE SYSTEM:

These records consist of: veteran's service number, social security number, name, address, date of birth, test dates, sex, race, marital status, combined degree of disability, VBA (Veterans Benefits Administration) diagnostic codes, disability rating, disability description, service-connection, outreach letter information, names of tests, substances potentially exposed to, means test indicator to determine a veterans eligibility for healthcare, indication for homelessness, purpose of visit, date of visit, and location of visit to VA, Veterans Integrated Service Network (VISN) number of the facility providing healthcare, name of facility visited, principal diagnosis, other diagnoses, medical procedures, indication of Agent Orange exposure and related information, exposure to nose/throat radium treatment administered by DoD, radiation exposure during military service indicator, major diagnostic category of the diagnostic related group, length of stay, self-reported exposure to ionizing radiation in Japan or through nuclear testing, Agent Orange related care provided during admission, patient exposed to environmental care, radiation treatment indicator, discharge date, and bedsection at discharge.

AUTHORITY FOR MAINTENANCE OF THE SYSTEM:

Title 38 United States Code, section 501.

PURPOSE(S):

The purpose of the Shipboard Hazard and Defense Integrated Database is to combine information about veterans who have been identified by DoD as P-112 participants from multiple VA databases into one database. The comprehensive information will be used to assess the needs of these veterans, to address their concerns of potential health risks, and to monitor VA's outreach efforts.

ROUTINE USES OF RECORDS MAINTAINED IN THE SYSTEM, INCLUDING CATEGORIES OF USERS AND THE PURPOSES OF SUCH USES:

To the extent that records contained in the system include information protected by 38 U.S.C. 7332 (such as medical treatment information related to drug abuse, alcoholism or alcohol abuse, sickle cell anemia or infection with the human immunodeficiency virus), that information cannot be disclosed under a routine use unless there is also specific statutory authority permitting disclosure.

1. The record of an individual who is covered by this system may be disclosed to a member of Congress or staff person acting for the member when the member or staff person requests the record on behalf of, and at the written request of, that individual.

2. Disclosure of records covered by this system, as deemed necessary and proper to named individuals serving as accredited service organization representatives and other individuals named as approved agents or attorneys for a documented purpose and the period of time, to aid beneficiaries in the preparation and presentation of their cases during the verification and/or due process procedures and in the presentation and prosecution of claims under laws administered by VA.

3. A record containing the name(s) and address(es) of present or former members of the armed services and/or their dependents may be released from this system of records under certain circumstances:

(a) To any nonprofit organization if the release is directly connected with the conduct of programs and the utilization of benefits under Title 38, and

(b) To any criminal or civil law enforcement governmental agency or instrumentality charged under applicable law with the protection of the public health or safety if a qualified representative of such organization, agency or instrumentality has made a written request that such name(s) or address(es) be provided for a purpose authorized by law; provided, further, that the record(s) will not be used for any purpose other than that stated in the request and that the organization, agency or instrumentality is aware of the penalty provision of 38 U.S.C. 5701(f).

4. Disclosure may be made to the National Archives and Record Administration (NARA) in records management inspections conducted under authority of 44 U.S.C. 2904 and 2906.

5. Disclosure of information, excluding name and address (unless name and address are furnished by the requestor) for research purposes determined to be necessary and proper, to epidemiological and other research facilities approved by the Under Secretary for Health.

6. In order to conduct federal research necessary to accomplish a statutory purpose of any agency, at the written request of the head of the agency, or designee of the head of that agency, the name(s) and address(es) of present or former personnel or the Armed Services and/or their dependents may be disclosed:

(a) To a federal department or agency or

(b) Directly to a contractor of a Federal department or agency. When a disclosure of this information is to be made directly to the contractor, VA may impose applicable conditions on the department, agency, and/or contractor to insure the appropriateness of the disclosure to the contractor.

7. In the event that a record maintained by VA to carry out its functions indicates a violation or potential violation of law, whether civil, criminal or regulatory in nature, and whether arising by general statute or particular program statute, or by regulation, rule or order issued pursuant thereto, information may be disclosed to the appropriate agency whether Federal, state, local or foreign, charged with the responsibility of investigating or prosecuting such violation or charged with the responsibility of investigating or prosecuting such violation or charged with enforcing or implementing the statute or rule, regulation or order issued pursuant thereto.

8. For program review purposes and the seeking of accreditation and/or certification, disclosure may be made to survey teams of the Joint Commission on Accreditation of Healthcare Organizations (JCAHO), College of American Pathologist, American Association of Blood Banks, and similar national accreditation agencies or boards with whom VA has a contract or agreement to conduct such reviews but only to the extent that the information is necessary and relevant to the review.

9. Records from this system of records may be disclosed to the Department of Justice (DOJ) or in a proceeding before a court, adjudicative body, or other administrative body before which VA, or any component thereof; or any employee of VA in his or her official capacity; where DOJ or VA has agreed to represent the employee or the U.S.; when VA determines that litigation is likely to affect it or any of its components, is a party to litigation, and has an interest in such litigation, and the use of such records by DOJ or VA is deemed by VA to be relevant and necessary to the litigation provided, however, that the disclosure is compatible with the purpose for which the records were collected.

POLICIES AND PRACTICES FOR STORING, RETRIEVING, ACCESSING, RETAINING, AND DISPOSING OF RECORDS IN THE SYSTEM:

STORAGE:

This information is stored on a secure computer system at U.S. Department of Veterans Affairs, 810 Vermont Avenue, NW., Washington, DC, 20420.

RETRIEVABILITY:

Records are retrieved by social security number and name.

SAFEGUARDS:

SHAD is stored on a secure computer network with restricted access at the U.S. Department of Veterans Affairs, 810 Vermont Avenue, NW., Washington, DC. There is minimum risk of unauthorized disclosure. Access to automated records in this system of records is limited to, and under the physical control of VA employees who have a unique identification/password and a need to know of the information contained in the system of records in order to perform their duties. Security personnel control access to the building seven days per week.

RETENTION AND DISPOSAL:

Records will be maintained and disposed of in accordance with records disposition authority approved by the Archivist of the United States.

SYSTEM MANAGER(S) AND ADDRESS

Acting Director, Data Management & Analysis Service, Office of Policy, Planning and Preparedness (008A3), U.S. Department of Veterans Affairs, 810 Vermont Avenue, NW., Washington, DC 20420.

NOTIFICATION PROCEDURE:

An individual who wishes to determine whether a record is being maintained in this system under his or her name or other personal identifier, or wants to determine the contents of such record, should submit a written request to the Acting Director, Data Management and Analysis Service, Office of Policy, Planning and Preparedness (008A3), U.S. Department of Veterans Affairs, Washington, DC 20420. Inquiries should include the veteran's name, social security number and return address.

RECORD ACCESS PROCEDURES

An individual who seeks access to records maintained under his or her name may write to the Acting Director, Data Management & Analysis Service, Office of Policy, Planning, and Preparedness (008A3), U.S. Department of Veterans Affairs, 810 Vermont Avenue, NW., Washington, DC 20420.

CONTESTING RECORDS PROCEDURE

Refer to previous item, “Record Access Procedures.”

RECORD SOURCE CATEGORIES

Information is obtained from VA patient medical records, various automated record systems providing clinical and managerial support to VA health care facilities, records from VA's Veterans Benefits Administration, Department of Defense, and other Federal agencies.

[FR Doc. 03-24624 Filed 9-29-03; 8:45 am]

BILLING CODE 8320-01-P